DEPARTMENT OF COMMERCE

International Trade Administration

[A-580-889]

Dioctyl Terephthalate From the Republic of Korea: Final Results of the Expedited First Sunset Review of the Antidumping Duty Order

AGENCY: Enforcement and Compliance, International Trade Administration, Department of Commerce.

SUMMARY: As a result of this expedited sunset review, the U.S. Department of Commerce (Commerce) finds that revocation of the antidumping duty (AD) order on dioctyl terephthalate (DOTP) from the Republic of Korea (Korea) would be likely to lead to continuation or recurrence of dumping at the levels indicated in the “Final Results of Review” section of this notice.

DATES: Applicable November 3, 2022.

FOR FURTHER INFORMATION CONTACT: Laurel LaCivita, AD/CVD Operations, Office III, Enforcement and Compliance, International Trade Administration, U.S. Department of Commerce, 1401 Constitution Avenue NW, Washington, DC 20230; telephone: (202) 482-4243.

SUPPLEMENTARY INFORMATION:

Background

On July 1, 2021, Commerce published the Initiation Notice of the first sunset review of the AD order on DOTP from Korea ¹ pursuant to section 751(c) of the Tariff Act of 1930, as amended (the Act).² On July 15, 2022, Eastman Chemical Company (Eastman Chemical), a domestic interested party and the petitioner in the underlying investigation, timely notified Commerce of its intent to participate within the deadline specified in 19 CFR 351.218(d)(1)(i).³ On August 1, 2022, Eastman Chemical submitted a timely substantive response for this review within the 30-day deadline specified in 19 CFR 351.218(d)(3)(i).⁴ Commerce did not receive a substantive response from any other interested parties with respect to the Order covered by this sunset review. On August 23, 2022, Commerce notified the U.S. International Trade Commission that it did not receive an adequate substantive response from the respondent interested parties in this sunset review.⁵ As a result, pursuant to section 751(c)(3)(B) of the Act and 19 CFR 351.218(e)(1)(ii)(C)(2), Commerce conducted an expedited (120-day) sunset review of this Order.

¹ See Dioctyl Terephthalate from the Republic of Korea: Antidumping Duty Order, 82 FR 39409 (August 18, 2017) (Order).

² See Initiation of Five-Year (Sunset) Reviews, 87 FR 39459 (July 1, 2022) (Initiation Notice).

³ See Eastman Chemical's Letter, “Five-Year (“Sunset”) Review Of Antidumping Duty Order On Dioctyl Terephthalate From the Republic of Korea: Eastman Chemical Company's Notice Of Intent To Participate In Sunset Review,” dated July 15, 2022.

⁴ See Eastman Chemical's Letter, “Five-Year (Sunset) Review of Antidumping Duty Order on Dioctyl Terephthalate from the Republic of Korea: Eastman Chemical Company's Substantive Response to Notice of Initiation of Review of the Antidumping Duty Order,” dated August 1, 2022.

⁵ See Commerce's Letter, “Sunset Reviews for July 1, 2022,” dated August 23, 2022.

Scope of the Order

The merchandise covered by this Order is dioctyl terephthalate (DOTP), regardless of form. DOTP that has been blended with other products is included within this scope when such blends include constituent parts that have not been chemically reacted with each other to produce a different product. For such blends, only the DOTP component of the mixture is covered by the scope of this Order.

DOTP that is otherwise subject to this Order is not excluded when commingled with DOTP from sources not subject to this Order. Commingled refers to the mixing of subject and non-subject DOTP. Only the subject component of such commingled products is covered by the scope of the Order.

DOTP has the general chemical formulation C6H4(C8H17COO)2 and a chemical name of “bis (2-ethylhexyl) terephthalate” and has a Chemical Abstract Service (CAS) registry number of 6422-86-2. Regardless of the label, all DOTP is covered by this Order.

Subject merchandise is currently classified under subheading 2917.39.2000 of the Harmonized Tariff Schedule of the United States (HTSUS). Subject merchandise may also enter under subheadings 2917.39.7000 or 3812.20.1000 of the HTSUS. While the CAS registry number and HTSUS subheadings are provided for convenience and customs purposes, the written description of the scope of this Order is dispositive.

Analysis of Comments Received

All issues raised in this review are addressed in the Issues and Decision Memorandum, including the likelihood of continuation or recurrence of dumping and the magnitude of the margin of dumping likely to prevail if this Order were revoked. A list of the issues discussed in the decision memorandum is attached as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

Final Results of Review

Pursuant to sections 751(c) and 752(c) of the Act, Commerce determines that revocation of the Order would be likely to lead to continuation or recurrence of dumping, and that the magnitude of the margin of dumping likely to prevail would be up to 4.08 percent.

Administrative Protective Order

This notice serves as the only reminder to parties subject to an administrative protective order (APO) of their responsibility concerning the destruction of proprietary information disclosed under APO in accordance with 19 CFR 351.305(a). Timely written notification of the return or destruction of APO materials or conversion to a judicial protective order is hereby requested. Failure to comply with the regulations and terms of an APO is a violation which is subject to sanction.

Notification to Interested Parties

We are issuing and publishing these results in accordance with sections 751(c), 752(c), and 777(i)(1) of the Act and 19 CFR 351.221(c)(5)(ii).

Dated: October 28, 2022.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely To Prevail

VII. Final Results of Sunset Review

VIII. Recommendation

[FR Doc. 2022-23930 Filed 11-2-22; 8:45 am]

BILLING CODE 3510-DS-P